DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing an update to the identifying information of one entity currently included on OFAC's list of Specially Designated Nationals and Blocked Persons.

DATES: See SUPPLEMENTARY INFORMATION section for the date on which the update becomes effective.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On February 19, 2020, OFAC updated the SDN List for the following entity, whose property and interests in property continue to be blocked under the Foreign Narcotics Kingpin Designation Act.

Entity

1. INVERSIONES CONTINENTAL, S.A. DE C.V. (a.k.a. GRUPO FINANCIERO CONTINENTAL; a.k.a. “GRUPO FINANCIERO”), Entre la 9 y 10 Avenida, 1ra Calle, Boulevard Morazan, CC Nova, San Pedro Sula, Honduras; National ID No. 0101999501331 (Honduras); RTN 1019995013319 (Honduras) [SDNTK]

The listing for the entity now appears as follows:

1. INVERSIONES CONTINENTAL, S.A. DE C.V. (a.k.a. GRUPO FINANCIERO CONTINENTAL; a.k.a. “GRUPO FINANCIERO”), Entre la 9 y 10 Avenida, 1ra Calle, Boulevard Morazan, CC Nova, San Pedro Sula, Honduras; National ID No. 0501999514659 (Honduras); RTN 05019995146590 (Honduras) [SDNTK]

Dated: February 19, 2020.
Gregory T. Gatjanis,
Associate Director, Office of Global Targeting.

[FR Doc. 2020-03573 Filed 2-21-20; 8:45 am]

BILLING CODE 4810-AL-P